DEPARTMENT OF HOMELAND SECURITY

[Docket No. CISA-2022-0007]

Notice of President's National Infrastructure Advisory Council Meeting

AGENCY: Cybersecurity and Infrastructure Security Agency (CISA), Department of Homeland Security (DHS).

ACTION: Notice of Federal Advisory Committee Act (FACA) meeting; request for comments.

SUMMARY: CISA is publishing this notice to announce the following President's National Infrastructure Advisory Council (NIAC) meeting. This meeting will be partially closed to the public.

DATES:

Meeting Registration: Registration is required to attend the meeting and must be received no later than 5:00 p.m. Eastern Time (ET) on September 19, 2022. For more information on how to participate, please contact NIAC@cisa.dhs.gov.

Speaker Registration: Registration to speak during the meeting's public comment period must be received no later than 5:00 p.m. ET on September 19, 2022.

Written Comments: Written comments must be received no later than 5:00 p.m. ET on September 19, 2022.

Meeting Date: The NIAC will meet on September 26, 2022, from 1:00 p.m. to 5:00 p.m. ET. The meeting may close early if the council has completed its business.

ADDRESSES: The National Infrastructure Advisory Council's open session will be held in-person at 1650 Pennsylvania Ave. NW, Washington, DC; however, members of the public may participate via teleconference only. Requests to participate will be accepted and processed in the order in which they are received. For access to the conference call bridge, information on services for individuals with disabilities, or to request special assistance, please email NIAC@cisa.dhs.gov by 5:00 p.m. ET on September 19, 2022. The NIAC is committed to ensuring all participants have equal access regardless of disability status. If you require a reasonable accommodation due to a disability to fully participate, please contact Celinda Moening at NIAC@cisa.dhs.gov as soon as possible.

Comments: The council will consider public comments on issues as listed in the SUPPLEMENTARY INFORMATION section below. Associated materials for potential discussions during the meeting will be available for review at https://www.cisa.gov/niac by September 23, 2022. Comments should be submitted by 5:00 p.m. ET on September 19, 2022 and must be identified by Docket Number CISA-2022-0007. Comments may be submitted by one of the following methods:

• Federal eRulemaking Portal: www.regulations.gov. Please follow the instructions for submitting written comments.

• Email: NIAC@cisa.dhs.gov. Include the Docket Number CISA-2022-0007 in the subject line of the email.

Instructions: All submissions received must include the words “Department of Homeland Security” and the Docket Number for this action. Comments received will be posted without alteration to www.regulations.gov, including any personal information provided. You may wish to read the Privacy & Security Notice which is available via a link on the homepage of www.regulations.gov.

Docket: For access to the docket and comments received by the National Infrastructure Advisory Council, please go to www.regulations.gov and enter docket number CISA-2022-0007.

A public comment period will take place from 4:30 p.m. to 4:40 p.m. Speakers who wish to participate in the public comment period must email NIAC@cisa.dhs.gov to register. Speakers should limit their comments to 3 minutes and will speak in order of registration. Please note that the public comment period may end before the time indicated, depending on the number of speakers who register to participate.

FOR FURTHER INFORMATION CONTACT: Celinda Moening, NIAC@cisa.dhs.gov.

SUPPLEMENTARY INFORMATION: The NIAC is established under section 10 of E.O. 13231 issued on October 16, 2001, continued and amended under the authority of E.O. 14048, dated September 30, 2021. Notice of this meeting is given under the Federal Advisory Committee Act (FACA), 5 U.S.C. appendix (Pub. L. 92-463). The NIAC provides the President, through the Secretary of Homeland Security, advice on the security and resilience of the Nation's critical infrastructure sectors.

Agenda: The National Infrastructure Advisory Council will meet in an open session on Monday, September 26, 2022 from 3:00 p.m. to 5:00 p.m. ET to discuss NIAC activities. The open session will include: (1) a period for public comment; (2) a discussion on The Infrastructure Investment and Jobs Act/Bipartisan Infrastructure Law; and (3) a roundtable discussion on potential study topics and subcommittees.

The council will meet in a closed session from 1:00 p.m. to 2:30 p.m. ET during which time senior Government intelligence officials will provide a classified threat briefing concerning threats to the Nation's critical infrastructure and engage NIAC members in follow-on discussions.

Basis for Closure: In accordance with section 10(d) of FACA and 5 U.S.C. 552b(c)(1), The Government in the Sunshine Act, it has been determined that a portion of the agenda requires closure, as the disclosure of the classified information that will be discussed would not be in the public interest.

The agenda item includes a classified threat briefing and discussion, at which time senior Government intelligence officials will discuss information concerning threats to the Nation's critical Infrastructure with NIAC members. This briefing is anticipated to be classified at the secret level. Public disclosure of these threats, as well as vulnerabilities and mitigations, is a risk to the Nation's infrastructure security posture as adversaries could use this information to do harm. Therefore, this portion of the meeting is required to be closed pursuant to section 10(d) of FACA and 5 U.S.C. 552b(c)(1).

Dated: August 31, 2022.
Celinda E. Moening,
Alternate Designated Federal Officer, National Infrastructure Advisory Council, Cybersecurity and Infrastructure Security Agency, Department of Homeland Security.

[FR Doc. 2022-19228 Filed 9-6-22; 8:45 am]

BILLING CODE 9110-9P-P